DEPARTMENT OF HOMELAND SECURITY

Federal Emergency Management Agency

[Docket ID FEMA-2021-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Colorado:
Adams (FEMA Docket No.: B-2100). | City of Thornton (20-08-0251P). | The Honorable Janifer Kulmann, Mayor, City of Thornton, 9500 Civic Center Drive, Thornton, CO 80229. | City Hall, 9500 Civic Center Drive, Thornton, CO 80229. | Mar. 26, 2021 | 080007
Adams (FEMA Docket No.: B-2100). | Unincorporated areas of Adams County (20-08-0251P). | The Honorable Emma Pinter, Chair, Adams County Board of Commissioners, 4430 South Adams County Parkway, Suite C5000A, Brighton, CO 80601. | Adams County Community and Economic Development Department, 4430 South Adams County Parkway, Suite W2000, Brighton, CO 80601. | Mar. 26, 2021 | 080001
Jefferson (FEMA Docket No.: B-2076). | Unincorporated areas of Jefferson County (20-08-0724P). | The Honorable Lesley Dahlkemper, Chair, Jefferson County Board of Commissioners, 100 Jefferson County Parkway, Suite 5550, Golden, CO 80419. | Jefferson County Department of Planning and Zoning, 100 Jefferson County Parkway, Suite 3550, Golden, CO 80419. | Mar. 19, 2021 | 080087
Florida:
Collier (FEMA Docket No.: B-2100). | City of Naples (20-04-5396P). | The Honorable Teresa Heitmann, Mayor, City of Naples, 735 8th Street South, 2nd Floor, Naples, FL 34102. | Building Department, 295 Riverside Circle, Naples, FL 34102. | Mar. 22, 2021 | 125130
Hillsborough (FEMA Docket No.: B-2100). | Unincorporated areas of Hillsborough County (20-04-1456P). | Ms. Bonnie M. Wise, Hillsborough County Administrator, 601 East Kennedy Boulevard, 26th Floor, Tampa, FL 33602. | Hillsborough County Center, 601 East Kennedy Boulevard, 22nd Floor, Tampa, FL 33602. | Mar. 18, 2021 | 120112
Hillsborough (FEMA Docket No.: B-2100). | Unincorporated areas of Hillsborough County (20-04-4569P). | Ms. Bonnie M. Wise, Hillsborough County Administrator, 601 East Kennedy Boulevard, 26th Floor, Tampa, FL 33602. | Hillsborough County Center, 601 East Kennedy Boulevard, 22nd Floor, Tampa, FL 33602. | Apr. 1, 2021 | 120112
Lee (FEMA Docket No.: B-2106). | Unincorporated areas of Lee County (20-04-5420P). | Mr. Roger Desjarlais, Lee County Manager, 2120 Main Street, Fort Myers, FL 33901. | Lee County Building Department, 1500 Monroe Street, Fort Myers, FL 33901. | Mar. 23, 2021 | 125124
Miami-Dade (FEMA Docket No.: B-2100). | City of Miami (20-04-6068P). | The Honorable Francis X. Suarez, Mayor, City of Miami, 3500 Pan American Drive, Miami, FL 33133. | Building Department, 444 Southwest 2nd Avenue, 4th Floor, Miami, FL 33130. | Mar. 22, 2021 | 120650
Monroe (FEMA Docket No.: B-2100). | Village of Islamorada (20-04-6217P). | The Honorable Mike Forster, Mayor, Village of Islamorada, 86800 Overseas Highway, Islamorada, FL 33036. | Building Department, 86800 Overseas Highway, Islamorada, FL 33036. | Apr. 1, 2021 | 120424
Palm Beach (FEMA Docket No.: B-2076). | City of Westlake (20-04-2587P). | The Honorable Roger Manning, Mayor, City of Westlake, 4001 Seminole Pratt Whitney Road, Westlake, FL 33470. | City Hall, 4001 Seminole Pratt Whitney Road, Westlake, FL 33470. | Mar. 15, 2021 | 120018
Palm Beach (FEMA Docket No.: B-2100). | Town of Jupiter (20-04-3713P). | Mr. Matt Benoit, Manager, Town of Jupiter, 210 Military Trail, Jupiter, FL 33458. | Building and Stormwater Utility Department, 210 Military Trail, Jupiter, FL 33458. | Mar. 24, 2021 | 125119
Palm Beach (FEMA Docket No.: B-2100). | Village of Royal Palm Beach (20-04-0312P). | The Honorable Fred Pinto, Mayor, Village of Royal Palm Beach, 1050 Royal Palm Beach Boulevard, Royal Palm Beach, FL 33411. | Village Hall, 1050 Royal Palm Beach Boulevard, Royal Palm Beach, FL 33411. | Mar. 23, 2021 | 120225
Massachusetts: Bristol (FEMA Docket No.: B-2076). | Town of Easton (20-01-0637P). | The Honorable Dottie Fulginiti, Chair, Town of Easton Select Board, 136 Elm Street, Easton, MA 02356. | Department of Public Works, 130 Center Street, Easton, MA 02356. | Mar. 15, 2021 | 250053
Pennsylvania:
Dauphin (FEMA Docket No.: B-2100). | Borough of Middletown (20-03-1407P). | The Honorable Ian Reddinger, President, Borough of Middletown Council, 60 West Emaus Street, Middletown, PA 17057. | Borough Hall, 60 West Emaus Street, Middletown, PA 17057. | Mar. 26, 2021 | 420388
Lancaster (FEMA Docket No.: B-2076). | Township of East Lampeter (20-03-1645P). | Mr. Ralph Hutchison, Manager, Township of East Lampeter, 2250 Old Philadelphia Pike, Lancaster, PA 17602. | Planning, Zoning, and Building Department, 2250 Old Philadelphia Pike, Lancaster, PA 17602. | Mar. 22, 2021 | 421771
Rhode Island: Washington (FEMA Docket No.: B-2100). | Town of South Kingstown (20-01-1104P). | The Honorable Abel G. Collins, President, Town of South Kingstown Council, 180 High Street, Wakefield, RI 02879. | Building Inspection and Zoning Department, 180 High Street, Wakefield, RI 02879. | Mar. 19, 2021 | 445407
South Carolina: Charleston (FEMA Docket No.: B-2076). | City of Charleston (20-04-5212P). | The Honorable John J. Tecklenburg, Mayor, City of Charleston, 80 Broad Street, Charleston, SC 29401. | Department of Public Service, 2 George Street, Suite 2100, Charleston, SC 29401. | Mar. 22, 2021 | 455412
Texas:
Collin (FEMA Docket No.: B-2100). | City of Wylie (20-06-2188P). | The Honorable Eric Hogue, Mayor, City of Wylie, 300 Country Club Road, Building 100, Wylie, TX 75098. | City Hall, 300 Country Club Road, Building 100, Wylie, TX 75098. | Apr. 1, 2021 | 480759
Dallas (FEMA Docket No.: B-2100). | City of Carrollton (20-06-2233P). | Ms. Erin Rinehart, Manager, City of Carrollton, 1945 East Jackson Road, Carrollton, TX 75006. | Engineering Department, 1945 East Jackson Road, Carrollton, TX 75006. | Mar. 22, 2021 | 480167
Denton (FEMA Docket No.: B-2076). | City of Carrollton (20-06-0797P). | Ms. Erin Rinehart, Manager, City of Carrollton, 1945 East Jackson Road, Carrollton, TX 75006. | Engineering Department, 1945 East Jackson Road, Carrollton, TX 75006. | Mar. 15, 2021 | 480167
Tarrant (FEMA Docket No.: B-2100). | City of Arlington (20-06-2033P). | The Honorable Jeff Williams, Mayor, City of Arlington, P.O. Box 90231, Arlington, TX 76004. | Public Works and Transportation Department, 101 West Abram Street, Arlington, TX 76010. | Mar. 22, 2021 | 485454
Tarrant (FEMA Docket No.: B-2100). | City of Arlington (20-06-2035P). | The Honorable Jeff Williams, Mayor, City of Arlington, P.O. Box 90231, Arlington, TX 76004. | Public Works and Transportation Department, 101 West Abram Street, Arlington, TX 76010. | Apr. 1, 2021 | 485454
Tarrant (FEMA Docket No.: B-2100). | City of Arlington (20-06-2038P). | The Honorable Jeff Williams, Mayor, City of Arlington, P.O. Box 90231, Arlington, TX 76004. | Public Works and Transportation Department, 101 West Abram Street, Arlington, TX 76010. | Mar. 22, 2021 | 485454
Tarrant (FEMA Docket No.: B-2100). | City of Arlington (20-06-2039P). | The Honorable Jeff Williams, Mayor, City of Arlington, P.O. Box 90231, Arlington, TX 76004. | Public Works and Transportation Department, 101 West Abram Street, Arlington, TX 76010. | Mar. 25, 2021 | 485454
Travis (FEMA Docket No.: B-2100). | City of Lakeway (20-06-3378P). | The Honorable Sandy Cox, Mayor, City of Lakeway, 1102 Lohmans Crossing Road, Lakeway, TX 78734. | City Hall, 1102 Lohmans Crossing Road, Lakeway, TX 78734. | Mar. 26, 2021 | 481303

[FR Doc. 2021-08692 Filed 4-26-21; 8:45 am]

BILLING CODE 9110-12-P